DEPARTMENT OF STATE

[Delegation of Authority No. 378]

Delegation of the Authority To Make Determinations Under 22 U.S.C. 2656f(d) From the Secretary of State to the Under Secretary for Management

By virtue of the authority vested in the Secretary of State by the State Department Basic Authorities Act (22 U.S.C. 2651a) and Section 140 of the Foreign Relations Authorization Act, 1988 and 1989 (Pub. L. 100-204), as amended (22 U.S.C. 2656f), I hereby delegate to the Under Secretary of State for Management, to the extent consistent with law, the authority to determine whether an individual's death resulted from terrorism or an act of terrorism, for the purpose of approving the payment of certain death benefits under Sections 413, 415, and 416 of the Foreign Service Act of 1980, as amended (22 U.S.C 3973, 3975, 3976).

In exercising the authority delegated herein, the Under Secretary will consult with relevant Department of State offices and bureaus before making the determination that a death resulted from terrorism or an act of terrorism.

Notwithstanding this Delegation of Authority, the Secretary, the Deputy Secretary, or the Deputy Secretary for Management and Resources may at any time exercise any function delegated by this delegation of authority.

Any act, executive order, regulation or procedure affected by this delegation shall be deemed to be such act, executive order, regulation, or procedure as amended from time to time. The delegation of authority does not revoke, supersede, or otherwise affect any other delegation of authority to the Under Secretary for Management.

This delegation of authority shall be published in the Federal Register.

John F. Kerry
Secretary of State.

[FR Doc. 2014-28044 Filed 11-26-14; 8:45 am]

BILLING CODE 4710-15-P